DEPARTMENT OF DEFENSE

Department of the Navy

Notice of Fiscal Year 2025 Performance Review Board

AGENCY: Department of the Navy (DoN), Department of Defense.

ACTION: Notice.

SUMMARY: The DoN announces the appointment of members to the DoN Senior Executive Service (SES), Senior Level, and Scientific and Professional Fiscal Year 2025 Performance Review Board (PRB). The purpose of the PRB is to provide fair and impartial review of the annual SES performance appraisal prepared by the senior executive's immediate and second level supervisor; to make recommendations to appointing officials regarding acceptance or modification of the performance rating; and to make recommendations for performance-based bonuses and performance-based pay increases.

FOR FURTHER INFORMATION CONTACT: Kim Hanson, Director, Executive Management Program Office, Manpower and Reserve Affairs at 703-693-8896 or kim.t.hanson.civ@us.navy.mil.

SUPPLEMENTARY INFORMATION:

Composition of the specific PRB is provided below:

Mr. C. Scott Duncan

Ms. E. Anne Sandel

Dr. Brett Seidle

Ms. Lisa St. Andre

Mr. Steven Parode

Dr. Bruce Danly

Mr. Thomas Rudowsky

Mr. Christopher Miller

Mr. John Pope III

Dr. Michael Strobl

Ms. Catherine Kessmeier

Ms. Kate DeMane (HLR)

Ms. Jennifer Edgin (HLR)

Ms. Jennifer LaTorre (Chair)

(Authority: 5 U.S.C. 4314(c)(4))

Dated: November 13, 2025.
A.R. DeMaio,
Lieutenant Commander, Judge Advocate General's Corps, U.S. Navy, Federal Register Liaison Officer.

[FR Doc. 2025-20023 Filed 11-17-25; 8:45 am]

BILLING CODE 3810-FF-P